FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 011775-002.

Title: NYK/WWL South America Space Charter Agreement.

Parties: Nippon Yusen Kaisha (“NYK”) and Wallenius Wilhelmsen Lines AS (“WWL”).

Filing Party: Wayne R. Rohde, Esq.; Sher & Blackwell LLP; 1850 M Street, NW.; Suite 900; Washington, DC 20036.

Synopsis: The amendment deletes the U.S. Pacific Coast, Alaska and Hawaii from the geographic scope of the agreement, and authorizes the parties to discuss and agree on the operation of two vessel loops.

Dated: November 20, 2009.
By Order of the Federal Maritime Commission.
Karen V. Gregory,
Secretary.

[FR Doc. E9-28262 Filed 11-24-09; 8:45 am]

BILLING CODE 6730-01-P